DEPARTMENT OF LABOR

Employment and Training Administration

[TA-W-57,904]

Luhr Jensen & Sons, Inc., Fishing Tackle Division Jentech Plant and Portway Plant, Hood River, OR; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on October 27, 2005, applicable to workers of Luhr Jensen & Sons, Inc., Fishing Tackle Division, Jentech Plant, Hood River, Oregon. The notice will soon be published in the Federal Register.

At the request of the State Agency, the Department reviewed the certification for workers of the subject firm. The workers produce fishing tackle.

The review of the investigation shows that the Department inadvertently omitted the Portway Plant in the certification document. Consequently, the certification is amended to include workers of the Portway Plant in Hood River, Oregon.

The amended notice applicable to TA-W-57,904 is hereby issued as follows:

“All workers of Luhr Jensen & Sons, Inc., Fishing Tackle Division, Jentech Plant and Portway Plant, Hood River, Oregon, who became totally or partially separated from employment on or after September 7, 2004 through October 27, 2007, are eligible to apply for adjustment assistance under Section 223 of the Trade Act of 1974, and are also eligible to apply for alternative trade adjustment assistance under Section 246 of the Trade Act of 1974.”

Signed in Washington, DC, this 14th day of November, 2005.
Linda G. Poole,
Certifying Officer, Division of Trade Adjustment Assistance.

[FR Doc. E5-6996 Filed 12-6-05; 8:45 am]

BILLING CODE 4510-30-P